DEPARTMENT OF AGRICULTURE

Forest Service

Notice of Availability (NOA) Record of Decision (ROD) for the Designation of Energy Corridors on Federal Land in the 11 Western States, Including Proposed Amendments to Selected Land Management Plans

AGENCY: Forest Service, USDA.

ACTION: Notice of availability of record of decision.

SUMMARY: In accordance with the National Environmental Policy Act (NEPA, 42 U.S.C. 4321 et seq.) and the National Forest Management Act (NFMA, 16 U.S.C. 1600-1614 et seq.), the Forest Service announces the decision to amend selected Land Management Plans. Specifically, the ROD amends 38 Land Management Plans for National Forests in 10 of the 11 Western States. The United States Department of the Interior and the Bureau of Land Management (BLM) are expected to concurrently announce a similar decision amending their respective Resource Management Plans.

Section 368 of the Energy Policy Act of 2005 (EPAct 2005), Public Law 109-58, directs the Secretaries of Agriculture, Defense, Energy, and the Interior to designate corridors on Federal land in the 11 Western States for oil, gas, and hydrogen pipelines, as well as electricity transmission and distribution facilities, and incorporate the designated corridors into relevant agency land use and resource management plans or equivalent plans.

The 11 Western States are Arizona, California, Colorado, Idaho, Montana, Nevada, New Mexico, Oregon, Utah, Washington, and Wyoming. The Forest Service is not designating any corridors in the State of New Mexico.

DATES: Effective Date: This decision is effective April 23, 2009.

ADDRESSES: The ROD is available on the internet at http://www.corridoreis.anl.com. Printed copies will be available at one of the involved National Forest supervisor or district ranger offices in the 10 Western States.

FOR FURTHER INFORMATION CONTACT: Glen Parker, Realty Specialist, Lands, 202-205-1196 or Ron Pugh, Planning Specialist, Ecosystem Management Coordination, 202-205-0992. USDA Forest Service, L; (Glen Parker); 1400 Independence Ave., SW, Mailstop Code: 1124; Washington, DC 20050-1124.

Individuals who use telecommunication devices for the deaf (TDD) may call the Federal Information Relay Service (FIRS) at 1-800-877-8339 between 8 a.m. and 8 p.m., Eastern Standard Time, Monday through Friday.

SUPPLEMENTARY INFORMATION: In October 2008, the BLM released a final Programmatic Environmental Impact Statement (PEIS) to designate corridors for future oil, gas, and hydrogen pipelines, as well as electricity transmission and distribution facilities, and to incorporate the designated corridors into the relevant agencies' land use and resource management plans or equivalent plans. Section 368 directs the involved agencies to take into account the need for upgraded and new infrastructure and to take actions to improve reliability, relieve congestion, and enhance the capability of the national grid to deliver energy. This action only pertains to the designation of corridors for potential facilities on Federal lands located within the 11 Western States.

Designation of Section 368 energy corridors is an important step in addressing critical energy needs in the West. Energy corridors on Federal lands provide pathways for future long-distance energy transmission that will help to relieve congestion, improve reliability, and enhance the national electric grid. Future use of corridors should reduce the proliferation of rights-of-way (ROWs) across the landscape and minimize the environmental footprint of future development.

Section 368 energy corridors are located to avoid, to the maximum extent possible, significant, known environmental resources. The corridors are designated considering potential renewable energy development in the West, which is currently constrained in part by a lack of transmission capacity. The coordinated, interagency permitting and environmental compliance processes, evaluated in the PEIS and adopted by this ROD, will foster long-term, systematic planning for energy transportation development and offer a consistent and improved interagency permitting process. The amendment of the land management plans is responsive to USDA's responsibilities under Section 368 of the Act and represents a forward-looking proactive response to the Nation's energy needs and the sustainable management of NFS lands.

The ROD is intended to improve coordination among the agencies to increase the efficiency of using designated corridors. In many areas of the United States, including the West, the infrastructure required to deliver energy has not always kept pace with growth in energy demand. The agencies hope to improve the delivery of energy, while enhancing the electric transmission grid for the future, by establishing a coordinated network of Section 368 energy corridors on Federal lands in the West. The final PEIS analyzes the environmental impacts of designating Section 368 energy corridors in 11 Western States and incorporating those designations into relevant agency land use and resource management plans or equivalent plans.

The Agencies prepared this PEIS at the designation stage because they believe it is an appropriate time to examine environmental concerns at the programmatic level. Impacts that affect the quality of the environment will only occur after specific proposals are submitted, analyzed through the NEPA process, and approved by the land management agency. The agencies expect that the PEIS will assist subsequent site-specific analyses for individual project proposals.

These energy corridors comprise a comprehensive, coordinated network of preferred locations for future energy projects that could be developed to satisfy demand for energy. This ROD designates approximately 990 miles of energy corridors on National Forest System lands in 10 of the 11 Western States as the preferred location for oil, natural gas, and hydrogen pipelines as well as electricity transmission and distribution lines. Environmental, engineering, and land use screening criteria were applied during the development of the proposed action to reduce potential environmental and land use conflicts. The energy corridors will typically be 3,500 feet wide, although the width may vary in certain areas due to environmental, topographic, or management requirements.

The policies and Interagency Operating Procedures (IOPs) developed under the proposed action establish requirements for the management of future individual energy transportation projects. The IOPs identify required management procedures to be incorporated into the analysis of future project-specific energy transportation development proposals.

The ROD amends a total of 38 Forest Service land management plans in 10 of the 11 Western States. The land use plan amendments designate the Section 368 energy corridors identified in the final ROD. The plan amendments do not eliminate the need for site-specific NEPA analyses of individual development proposals.

Readers should note this decision was signed by the Under Secretary of Agriculture for Natural Resources and the Environment; therefore, no administrative review of the Record of Decision under 36 CFR part 217 is available.

Reference to previously published Federal Register documents: 73 FR 72521, November 28, 2008; 73 FR 2905, January 16, 2008; 72 FR 64591, November 16, 2007; and 70 FR 56647, September 28, 2005.

Dated: March 12, 2009.
Ann Bartuska,
Acting Deputy Under Secretary, Natural Resources and Environment.

[FR Doc. E9-6346 Filed 3-23-09; 8:45 am]

BILLING CODE 3410-11-P